DEPARTMENT OF DEFENSE

Department of the Navy

Notice of Performance Review Board Membership

AGENCY: Department of the Navy, DoD.

ACTION: Notice.

SUMMARY: Pursuant to 5 U.S.C. 4314(c)(4), the Department of Navy (DoN) announces the appointment of members to the DoN's Senior Executive Service (SES) Organizational Pay Pools (PPs) and the DoN Performance Review Board (PRB). The purpose of the PPs/PRB is to provide fair and impartial review of the annual SES performance appraisal prepared by the senior executive's immediate and second level supervisor; to make recommendations to appointing officials regarding acceptance or modification of the performance rating; and to make recommendations for performance bonuses. Composition of the specific PPs and PRB will be determined on an ad hoc basis from among the individuals listed below.

Ackley, Victor Mr.

Adams, Patricia A. Ms.

Allard, Terry T. Dr.

Andress, Mark Mr.

Balderson, Diane M. Ms.

Benedict, Terry Mr.

Bianco, Margaret R. Ms.

Branch, Elliott B. Mr.

Brennan, Anne M. Ms.

Brotherton, Andrea E. Ms.

Cali, Robert T. Mr.

Chudoba, Phillip Mr.

Commons, Gladys Hon.

Davis, Anne R. Ms.

Decker, Jo A. Ms.

Duryea, David M. RDML

Easter, Steffanie B. Ms.

Eccles, Thomas RADM

Flattery, Katherine E. Ms.

Floyd, Kenneth E. RADM

Garcia, Juan Hon.

Gibbs, Robert C. Mr.

Gilpin, Richard S. Mr.

Goodhart, John C. Mr.

Hogue, Robert D. Mr.

Honecker, Mark W. Mr.

Hunt, Richard W. VADM

Iselin, Steven R. Mr.

Jabaley, Michael E. RDML

Jaynes, CJ RDML

Johnson, David C. RADM

Jones, Walter F. Dr.

Keeney, Carmela A. Ms.

Kessler, Gary K. Mr.

Kistler, Michael R. Mr.

Ledvina, Thomas N. Mr.

Leikach, Kalmen I. Mr.

Lewis, David H. RDML

Ligler, Frances S. Dr.

Maguire, Margaret M. Ms.

McCarthy, James F. Mr.

McCormack, Donald F. Jr. Mr.

McCurdy, Jesse W. Jr. Mr.

Montgomery, John A. Dr.

Moore, Thomas J. RDML

Murdoch, James A RDML

Murray, Sheryl E. Ms.

O'Neil, Scott M. Mr.

Persons, Brian J. Mr.

Punderson, Jerome F. Mr.

Ridley, Mark D. Mr.

Rixey, Joseph RADM

Schuette, Lawrence C. Mr.

Shannon, James J. RDML

Skinner, Walter M. VADM

Smith, Roderick F. Mr.

Smoot, Sharon H. Ms.

Stiller, Allison F. Ms.

Syring, James D. RDML

Tesch, Thomas G. Mr.

Thackrah, John S. Mr.

Thomsen, James E. Mr.

Wears, Thomas G. RDML

Whitney, Mark R. RDML

Work, Robert Hon.

Zangardi, John Dr.

FOR FURTHER INFORMATION CONTACT:

Ms. Bernadina Reyes, Office of Civilian Human Resources, telephone 703-693-0222.

Dated: October 23, 2012.
C. K. Chiappetta,
Lieutenant Commander, Office of the Judge Advocate General, U.S. Navy, Federal Register Liaison Officer.

[FR Doc. 2012-26758 Filed 10-30-12; 8:45 am]

BILLING CODE 3810-FF-P